NUCLEAR REGULATORY COMMISSION

[NRC-2009-0550]

Notice of Extension of Comment Period for NUREG-1921, EPRI/NRC-RES Fire Human Reliability Analysis Guidelines, Draft Report for Comment

AGENCY: Nuclear Regulatory Commission.

ACTION: Extension of public comment period.

SUMMARY: The U.S. Nuclear Regulatory Commission (NRC) issued for public comment a document entitled “NUREG-1921 (EPRI 1019196), EPRI/NRC-RES Fire Human Reliability Analysis Guidelines, Draft Report for Comment” (December 11, 2009; 74 FR 65810). This document extends the public comment period from February 15, 2010, to March 19, 2010.

DATES: The public comment period closes on March 19, 2010. Comments received after this date will be considered if it is practical to do so, but the NRC staff is able to ensure consideration only for comments received on or before this date.

ADDRESSES: You may submit comments by any one of the following methods. Please include Docket ID NRC-2009-0550 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0550. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. NUREG-1921 “EPRI/NRC-RES Fire Human Reliability Analysis Guidelines” is available electronically under ADAMS Accession Number ML093340307.

Federal Rulemaking Web site: Public comments and supporting materials related to this notice can be found at http://www.regulations.gov by searching on Docket ID: NRC-2009-0550.

FOR FURTHER INFORMATION CONTACT: Kendra Hill, Division of Risk Analysis, Office of Nuclear Regulatory Research, U.S. Nuclear Regulatory Commission, Washington, DC 20555-0001. Telephone: 301-251-3300, e-mail: Kendra.Hill@nrc.gov.

SUPPLEMENTARY INFORMATION: NUREG-1921 (EPRI 1019196), “EPRI/NRC-RES Fire Human Reliability Analysis Guidelines, Draft Report for Comment” was written as a collaborative effort by the NRC's Office of Nuclear Regulatory Research (RES) and the Electric Power Research Institute (EPRI) to provide guidance on how to perform the human reliability analysis (HRA) for a fire probabilistic risk analysis. In 2007, EPRI and NRC-RES embarked on a cooperative project to develop explicit guidance for estimating human error probabilities for human error events under fire generated conditions, building upon existing HRA methods. This report describes the methodology and guidance developed through this project. This report includes guidance on addressing the range of fire procedures used in existing plants, the range of strategies for main control room abandonment, and the potential impact of fire-induced spurious electrical effects on crew performance.

Due to the detailed nature of the processes described in this report and the level of effort required to provide a quality review, a request was submitted to the NRC for an extension of the public comment period for NUREG-1921 (EPRI 1019196). NRC-RES reviewed this request and has agreed to extend the public comment period an additional 32 days to March 19, 2010.

Dated at Rockville, Maryland, this 26th day of January, 2010.
For the Nuclear Regulatory Commission.
Mark Salley,
Chief, Fire Research Branch, Division of Risk Analysis, Office of Nuclear Regulatory Research.

[FR Doc. 2010-2289 Filed 2-2-10; 8:45 am]

BILLING CODE 7590-01-P